DEPARTMENT OF THE INTERIOR

National Park Service

Minor Boundary Revision of Lava Beds National Monument

AGENCY: National Park Service, Interior.

ACTION: Notification of boundary revision.

SUMMARY: Notice is hereby given that, pursuant to 16 U.S.C. 460l-9(c)(1), the boundary of the Petroglyph Point unit of Lava Beds National Monument in Modoc County, California, is modified to include two abutting tracts totaling 132.55 acres of land. Tract 01-116 (114.62 acres) and Tract 01-117 (17.93 acres) are unpatented federal lands presently under the jurisdiction of the Bureau of Land Management and the Bureau of Reclamation. Administrative jurisdiction over the tracts will be transferred to the National Park Service upon completion of the boundary revision. The tracts are depicted on Drawing No. 147/92,000, Sheet 1 of 1, Segment Map 01, revised August 2, 2010.

FOR FURTHER INFORMATION CONTACT: National Park Service, Chief, Pacific West Land Resources Program Center, Pacific West Region, 1111 Jackson St., Suite 700, Oakland, CA 94607; (510) 817-1414. This map depicting the revision is on file and available for inspection at this address and at National Park Service, Department of the Interior, Washington, DC 20240.

DATES: The effective date of this boundary revision is January 26, 2011.

SUPPLEMENTARY INFORMATION: 16 U.S.C. 460l-9(c)(1) provides that, after notifying the House Committee on Natural Resources and the Senate Committee on Energy and Resources, the Secretary of the Interior is authorized to make this boundary revision. The Committees have been so notified. This boundary adjustment and transfer of administrative jurisdiction will contribute to the protection of the significant historic and natural resources of the national monument.

Dated: November 3, 2010.
Christine S. Lehnertz,
Regional Director, Pacific West Region.

[FR Doc. 2011-1590 Filed 1-25-11; 8:45 am]

BILLING CODE 4312-GE-P